DEPARTMENT OF DEFENSE

Department of the Navy

Notice of Public Meetings for the Draft Environmental Impact Statement/Overseas Environmental Impact Statement for Military Readiness Activities in the Mariana Islands Training and Testing Study Area

AGENCY: Department of the Navy, DoD.

ACTION: Notice.

SUMMARY: Pursuant to section 102(2)(c) of the National Environmental Policy Act of 1969, and regulations implemented by the Council on Environmental Quality (40 Code of Federal Regulations Parts 1500-1508), and Presidential Executive Order 12114, the Department of the Navy (DoN) has prepared and filed with the U.S. Environmental Protection Agency a Draft Environmental Impact Statement/Overseas Environmental Impact Statement (EIS/OEIS). The Draft EIS/OEIS evaluates the potential environmental effects associated with military readiness training and research, development, test, and evaluation activities (training and testing) conducted within the Mariana Islands Training and Testing (MITT) Study Area. The National Marine Fisheries Service (NMFS), the U.S. Air Force, and the U.S. Coast Guard are cooperating agencies for this EIS/OEIS.

The MITT Study Area is composed of established ranges (at-sea ranges and land based training areas on Guam and the Commonwealth of Northern Mariana Islands [CNMI]); operating areas; and special use airspace in the region of the Mariana Islands that are part of the Mariana Islands Range Complex (MIRC) and its surrounding seas; includes a transit corridor between the MIRC and the Hawaii Range Complex; and Navy pierside locations where sonar maintenance and testing activities occur.

With the filing of the Draft EIS/OEIS, the DoN is initiating a 60-day public comment period and has scheduled four public meetings to receive comments on the Draft EIS/OEIS. This notice announces the dates and locations of the public meetings and provides supplementary information about the environmental planning effort.

DATES and ADDRESSES: The 60-day Draft EIS/OEIS public review period will begin September 13, 2013 and end November 12, 2013. The DoN will hold four public meetings to inform the public about the Proposed Action and alternatives under consideration, and to provide an opportunity for the public to comment on the Proposed Action, alternatives, and the adequacy and accuracy of the analysis in the Draft EIS/OEIS. Each of the public meetings will include an open house information session and an opportunity to present oral comments. DoN representatives will be available during the public meetings to clarify information related to the Draft EIS/OEIS. Federal and local agencies and officials, and interested organizations and individuals are encouraged to provide comments in writing during the public review period or in person at one of the scheduled public meetings.

The public meetings will be held between 5:00 p.m. and 8:00 p.m. on the following dates:

1. October 7, 2013, at the University of Guam, Leon Guerrero School of Business and Public Administration Building, Anthony Leon Guerrero Multi-Purpose Room 129, Mangilao, Guam 96923.

2. October 8, 2013, at the Pedro P. Tenorio Multi-Purpose Center in Susupe, Saipan, MP 96950.

3. October 9, 2013, at the Tinian High School Cafeteria, San Jose Village, Tinian, MP 96952.

4. October 10, 2013, at the Sinapalo Elementary School Cafeteria, Sinapalo I, Songsong Village, Rota, MP 96951.

Attendees will be able to submit oral and written comments during the public meetings. Oral comments from the public will be recorded by a court reporter. In the interest of available time, and to ensure all who wish to provide an oral comment to the court reporter have the opportunity to do so, each speaker's comments will be limited to three (3) minutes, which may be extended if meeting attendance permits. Equal weight will be given to oral and written statements. Comments may also be submitted via the U.S. Postal Service to Naval Facilities Engineering Command Pacific, Attention: MITT EIS/OEIS Project Manager, 258 Makalapa Drive, Suite 100, Pearl Harbor, HI 96860-3134, or electronically via the project Web site (www.MITT-EIS.com). All comments, oral or written, submitted during the public review period will become part of the public record on the Draft EIS/OEIS and will be responded to in the Final EIS/OEIS. All public comments must be postmarked or received by November 12, 2013, Chamorro Standard Time (ChST) to ensure they become part of the official record.

FOR FURTHER INFORMATION CONTACT: Naval Facilities Engineering Command Pacific, Attention: MITT EIS/OEIS Project Manager, 258 Makalapa Drive, Suite 100, Pearl Harbor, HI 96860-3134.

SUPPLEMENTARY INFORMATION: A Notice of Intent to prepare this Draft EIS/OEIS was published in the Federal Register on September 8, 2011 (Vol. 76, No. 174, pp. 55653-55654).

The DoN's Proposed Action is to conduct training and testing activities, which may include the use of active Sound Navigation and Ranging (sonar) and explosives, primarily in established operating and military warning areas of the MITT Study Area. The Proposed Action also includes pierside sonar maintenance and testing alongside Navy piers located in Inner Apra Harbor, and land-based training activities at existing ranges and other training locations on Guam and the CNMI.

The purpose of the Proposed Action is to achieve and maintain military readiness to meet the requirements of Title 10 of the U.S. Code, thereby ensuring that the DoN and other military services accomplish their mission to maintain, train, and equip combat-ready military forces capable of winning wars, deterring aggression, and maintaining freedom of the seas. This Draft EIS/OEIS will also support the renewal of federal regulatory permits and authorizations for current training and testing activities and to propose future activities requiring environmental analysis.

The Draft EIS/OEIS evaluates the potential environmental impacts of three alternatives, including the No Action Alternative. The No Action Alternative continues baseline training and testing activities, and airspace and seaspace reconfigurations, as defined by existing environmental planning documents. Alternative 1 (Preferred Alternative) consists of the No Action Alternative, plus adjustments to the Study Area boundaries and to the types and levels of training and testing activities as necessary to support current and planned requirements. This alternative consists of activities conducted throughout the Study Area and mission requirements associated with force structure changes, including those resulting from the development, testing, and ultimate introduction of new vessels, aircraft, and weapons systems into the Fleet. Alternative 2 consists of all activities that would occur under Alternative 1, plus additional adjustments to the types and levels of training and testing activities. Alternative 2 is contingent upon potential budget increases, strategic necessity, and future training and testing requirements.

In this EIS/OEIS, the DoN analyzes potential impacts on environmental resources resulting from activities under the alternatives. Resources evaluated include sediments and water quality, air quality, marine habitats, marine mammals, sea turtles, marine birds, marine vegetation, marine invertebrates, fish, terrestrial species and habitats, cultural resources, socioeconomic resources, and public health and safety.

DoN is requesting from NMFS a Marine Mammal Protection Act incidental take authorization and governing regulations for the incidental take of marine mammals that may result from the implementation of the activities analyzed in the Draft EIS/OEIS. In accordance with Section 7 of the Endangered Species Act, the DoN is consulting with NMFS and U.S. Fish and Wildlife Service on the potential impacts of training and testing activities on federally listed species. In accordance with the Magnuson-Stevens Fishery Conservation and Management Act, the DoN is consulting with NMFS on federally managed species and their essential fish habitat.

The Draft EIS/OEIS was distributed to Federal and local agencies, elected officials, and other interested organizations and individuals. Copies of the Draft EIS/OEIS are also available for public review at the following public libraries:

1. University of Guam Robert F. Kennedy Memorial Library, Government Documents Tan Siu Lin Building, University of Guam Station, Mangilao, GU 96923.

2. Tinian Public Library, P.O. Box 520704, Tinian, MP 96952.

3. Joeten-Kiyu Public Library, Insatto St., Beach Road, Susupe P.O. Box 501092, Saipan, MP 96950.

4. Nieves M. Flores Memorial Public Library, 254 Martyr St., Hagatna, GU 96910.

5. Rota Public Library, P.O. Box 537, Rota, MP 96951.

The Draft EIS/OEIS is also available for electronic viewing at www.MITT-EIS.com. A compact disc of the Draft EIS/OEIS will be made available upon written request by contacting: Naval Facilities Engineering Command Pacific, Attention: MITT EIS/OEIS Project Manager, 258 Makalapa Drive, Suite 100, Pearl Harbor, HI 96860-3134.

Dated: September 5, 2013.
N.A. Hagerty-Ford,
Commander, Office of the Judge Advocate General, U.S. Navy, Federal Register Liaison Officer.

[FR Doc. 2013-22296 Filed 9-12-13; 8:45 am]

BILLING CODE 3810-FF-P